DEPARTMENT OF AGRICULTURE

Forest Service

Southwest Idaho Resource Advisory Committee Meeting

AGENCY: Forest Service, USDA.

ACTION: Notice.

SUMMARY: The Southwest Idaho Resource Advisory Committee (RAC) will meet in Emmett, Idaho. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following Web site: http://www.idahorac.org/.

DATES: The meeting will be held March 22, 2016, from 9:00 a.m. to 5:00 p.m. All RAC meetings are subject to cancellation. For status of meeting prior to attendance, please contact the person listed under FOR FURTHER INFORMATION CONTACT.

ADDRESSES: The meeting will be held at the Emmett Ranger District, 1805 Highway 16, Emmett, Idaho. Written comments may be submitted as described under SUPPLEMENTARY INFORMATION. All comments, including names and addresses when provided, are placed in the record and are available for public inspection and copying. The public may inspect comments received at Emmett Ranger District.

FOR FURTHER INFORMATION CONTACT: Richard Newton, Designated Federal Officer (DFO), by phone at 208-365-7001 or via email at renewton@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Outline meeting objectives,

2. Review the Agenda;

3. Review and discuss project proposals for funding; and

4. Summarize RAC recommendations.

The meeting is open to the public. No public statements or presentations will be planned for at this meeting unless the RAC determines it will hear comments to clarify proposals. Project presentations, if needed by the committee, will be conducted during the second meeting on March 29, 2016. Anyone who would like to bring related matters to the attention of the committee may file written statements with the DFO before or after the meeting. Written comments and requests for time to make oral comments must be sent to Richard Newton, Distric Ranger/DFO, Emmett Ranger District, 1805 Highway 16, Room 5, Emmett, Idaho 83617; by email to renewton@fs.fed.us, or via facsimile to 208-365-7037 by March 4, 2016.

Meeting Accommodations: If you are a person requiring reasonable accommodation, please make requests in advance for sign language interpreting, assistive listening devices, or other reasonable accommodation. For access to the facility, please contact the person listed in the section titled FOR FURTHER INFORMATION CONTACT. All reasonable accommodation requests are managed on a case by case basis.

Dated: February 16, 2016.
Cecila R. Seesholtz,
Forest Supervisor.

[FR Doc. 2016-03563 Filed 2-26-16; 8:45 am]

BILLING CODE 3411-15-P